DEPARTMENT OF COMMERCE

Patent and Trademark Office

Agency Information Collection Activities; Submission to the Office of Management and Budget (OMB) for Review and Approval; Comment Request; International Work Sharing Program

AGENCY: United States Patent and Trademark Office, Department of Commerce.

ACTION: Notice of information collection; request for comment.

SUMMARY: The United States Patent and Trademark Office (USPTO), as required by the Paperwork Reduction Act of 1995, invites comments on the extension and revision of an existing information collection: 0651-0079 (International Work Sharing Program). The purpose of this notice is to allow 60 days for public comment preceding submission of the information collection to OMB.

DATES: To ensure consideration, comments regarding this information collection must be received on or before February 14, 2022.

ADDRESSES: Interested persons are invited to submit written comments by any of the following methods. Do not submit Confidential Business Information or otherwise sensitive or protected information.

• Email: InformationCollection@uspto.gov. Include “0651-0079 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Request for additional information should be directed to Michael Arguello, International Worksharing Planning and Implementation, United States Patent and Trademark Office, P.O. Box 1450, Alexandria, VA 22313-1450; by telephone at 571-270-7876; or by email at Michael.Arguello@uspto.gov with “0651-0079 comment” in the subject line. Additional information about this information collection is also available at http://www.reginfo.gov under “Information Collection Review.”

SUPPLEMENTARY INFORMATION:

I. Abstract

The United States Patent and Trademark Office (USPTO) established a Work Sharing Pilot Program in conjunction with the Japan Patent Office (JPO) and the Korean Intellectual Property Office (KIPO) to study how the exchange of search results between offices for corresponding counterpart applications improves patent quality and facilitates the examination of patent applications in both offices. Under this Work Sharing Pilot Program, two Collaborative Search Pilot (CSP) programs—USPTO-JPO and USPTO-KIPO—have been implemented. Through their respective CSP(s), each office concurrently conducts searches on corresponding counterpart applications. Each office's search results are exchanged following these concurrent searches, which provides examiners with a comprehensive set of art before them at the commencement of examination.

Work sharing between Intellectual Property (IP) offices is critical for increasing the efficiency and quality of patent examination worldwide. The exchange of information and documents between IP offices also benefits applicants by promoting compact prosecution, reducing pendency, and supporting patent quality by reducing the likelihood of inconsistencies in patentability determinations among IP offices when considering corresponding counterpart applications. The gains in efficiency and quality are achieved through a collaborative work sharing approach to the evaluation of patent claims. As a result of this exchange of search reports, the examiners in both offices may have a more comprehensive set of references before them when making an initial patentability determination.

This information collection is necessary so that applicants that file applications in the USPTO, JPO, and KIPO may participate in the Work Sharing Pilot Program. The Program enables its participants to engage in the exchange of IP documents between the said countries to facilitate efficient worldwide patent examinations. This information collection is comprised of three items: The Petition for Participation in the CSP Program Between the JPO and the USPTO; the Petition for Participation in the CSP Program Between the KIPO and the USPTO; and the CSP Survey. The Petitions for Participation are used by patent applicants to request participation in the CSP Program. The CSP Survey is used to collect feedback on the program's value, monitor usage of the program, and to measure the benefits the program provides to participants.

II. Method of Collection

The forms associated with this information collection may be downloaded from the USPTO website in Portable Document Format (PDF) and filled out electronically. Requests to participate in the International Work Sharing Program must be submitted online using EFS-Web, the USPTO's web-based electronic filing system.

III. Data

OMB Control Number: 0651-0079.

Forms: (SB = Specimen Book).

• PTO/SB/437 (Petition to Make Special Under the Expanded Collaborative Search Pilot Program).

• PTO/SB/438 (Collaborative Search Pilot Program Survey).

Type of Review: Extension and revision of a currently approved information collection.

Affected Public: Private sector; individuals or households.

Respondent's Obligation: Required to obtain or retain benefits.

Estimated Number of Annual Respondents: 300 respondents.

Estimated Number of Annual Responses: 300 responses.

Estimated Time per Response: The USPTO estimates that the responses in this information collection will take the public approximately between 5 minutes (0.08 hours) and 3 hours to complete. This includes the time to gather the necessary information, create the document, and submit the completed request to the USPTO.

Estimated Total Annual Respondent Burden Hours: 462 hours.

Estimated Total Annual Respondent Hourly Cost Burden: $200,970.

Table 1—Total Burden Hours and Hourly Costs to Private Sector Respondents
Item No. | Item | Estimated annual respondents | Estimated responses per respondent | Estimated annual responses | Estimated time for response (hour) | Estimated burden (hour/year) | Rate¹ ($/hour) | Estimated annual respondent cost burden
|  | (a) | (b) | (a) × (b) = (c) | (d) | (c) × (d) = (e) | (f) | (e) × (f) = (g)
1 | Petition for Participation in the Collaborative Search Pilot (CSP) Program Between the Japan Patent Office (JPO) and the USPTO | 37 | 1 | 37 | 3 | 111 | $435 | $48,285
2 | Petition for Participation in the Collaborative Search Pilot (CSP) Program Between the Korean Intellectual Property Office (KPO) and the USPTO | 75 | 1 | 75 | 3 | 225 | 435 | 97,875
3 | CSP Survey | 112 | 1 | 112 | 0.08 (5 minutes) | 9 | 435 | 3,915
| Totals | 224 |  | 224 |  | 345 |  | 150,075
¹ 2021 Report of the Economic Survey, published by the Committee on Economics of Legal Practice of the American Intellectual Property Law Association (AIPLA); pg. F-27. The USPTO uses the average billing rate for intellectual property attorneys in private firms which is $435 per hour.

Table 2—Total Burden Hours and Hourly Costs to Private Sector Respondents
Item No. | Item | Estimated annual respondents | Estimated responses per respondent | Estimated annual responses | Estimated time for response (hour) | Estimated burden (hour/year) | Rate ² ($/hour) | Estimated annual respondent cost burden
|  | (a) | (b) | (a) × (b) = (c) | (d) | (c) × (d) = (e) | (f) | (e) × (f) = (g)
1 | Petition for Participation in the Collaborative Search Pilot (CSP) Program Between the Japan Patent Office (JPO) and the USPTO | 13 | 1 | 13 | 3 | 39 | $435 | $16,965
2 | Petition for Participation in the Collaborative Search Pilot (CSP) Program Between the Korean Intellectual Property Office (KPO) and the USPTO | 25 | 1 | 25 | 3 | 75 | 435 | 32,625
3 | CSP Survey | 38 | 1 | 38 | 0.08 (5 minutes) | 3 | 435 | 1,305
| Totals | 76 |  | 76 |  | 117 |  | $50,895
² Ibid.

Estimated Total Annual Respondent Non-hourly Cost Burden: $0. There are no capital start-up, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Kimberly Hardy,
Information Collections Officer, Office of the Chief Adminstrative Officer, United States Patent and Trademark Office.

[FR Doc. 2021-26960 Filed 12-13-21; 8:45 am]

BILLING CODE 3510-16-P